ENVIRONMENTAL PROTECTION AGENCY

[EPA-HQ-OPP-2015-0022 FRL-9928-24]

Pesticide Product Registration; Receipt of Applications for New Uses; Correction and Reopening of Comment Period

AGENCY: Environmental Protection Agency (EPA).

ACTION: Notice; correction and reopening of comment period.

SUMMARY: EPA issued a notice in the Federal Register of April 15, 2015, concerning Pesticide Product Registration; Receipt of Applications for New Uses. The notice inadvertently identified the applications listed as being new active ingredients rather than new uses. This document corrects that error and also reopens the comment period for an additional 30 days. EPA has received applications to register new uses for pesticide products containing currently registered active ingredients. Pursuant to the Federal Insecticide, Fungicide, and Rodenticide Act (FIFRA), EPA is hereby providing notice of receipt and opportunity to comment on these applications.

DATES: Comments, identified by the docket identification (ID) listed in the body of this document, must be received on or before July 6, 2015.

ADDRESSES: Follow the detailed instructions as provided under ADDRESSES in the Federal Register document of April 15, 2015 (80 FR 20223) (FRL-9924-89).

FOR FURTHER INFORMATION CONTACT: Susan Lewis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

The Agency included in the April 15, 2015 Federal Register notice a list of those who may be potentially affected by this action.

B. How can I get copies of this document and other related information?

The dockets for these actions, identified by docket identification (ID) numbers EPA-HQ-OPP-2015-0180 for Cyprodinil; EPA-HQ-OPP-2015-0014 for Mefenoxam; EPA-HQ-OPP-2015-0179 for Flutriafol; EPA-HQ-OPP-2014-0922 for Zoxamide; and EPA-HQ-OPP-2014-0232 for Novaluron, are available at http://www.regulations.gov or at the Office of Pesticide Programs Regulatory Public Docket (OPP Docket) in the Environmental Protection Agency Docket Center (EPA/DC), West William Jefferson Clinton Bldg., Rm. 3334, 1301 Constitution Ave. NW., Washington, DC 204600-0001. The public Reading Room is open from 8:30 a.m. to 4:30 p.m., Monday through Friday, except legal holidays. The telephone number for the Public Reading Room is (202) 566-1744, and the telephone number for the OPP Docket is (703) 305-5805. Please review the visitor instructions and additional information about the docket available at http://www.epa.gov/dockets.

C. Why is the comment period being reopened?

This document reopens the public comment period for the Pesticide Product Registration; Receipt of Applications for New Uses notice, which was published in the Federal Register of April 15, 2015. EPA is hereby reopening the comment period 30 days because EPA has received applications to register new uses for pesticide products containing currently registered active ingredients. Pursuant to the provision of FIFRA section 3(c)(4) (7 U.S.C. 136a(c)(4)), EPA is hereby providing notice of receipt and opportunity to comment on these applications. Notice of receipt of these applications does not imply a decision by the Agency on these applications.

II. What does this correction do?

FR Doc. 2015-08478 published in the Federal Register of April 15, 2015 (80 FR 20222) (FRL-9924-89) is corrected to read as follows:

1. On page 20222, third column, under the document entitled “Pesticide Product Registration; Receipt of Applications for New Uses”, under the heading SUMMARY, the first paragraph, third line, correct “active ingredients” to read “new uses”.

2. On page 20223, first column, 7 lines from the bottom of the page, correct “active ingredients” to read “new uses”.

Authority: 7 U.S.C. 136 et seq.

Dated: May 22, 2015.
Daniel J. Rosenblatt,
Director, Registration Division, Office of Pesticide Programs.

[FR Doc. 2015-13423 Filed 6-2-15; 8:45 am]

BILLING CODE 6560-50-P